DEPARTMENT OF THE TREASURY

Financial Crimes Enforcement Network; Proposed Collection; Comment Request; Suspicious Activity Report by the Securities and Futures Industry

AGENCY: Financial Crimes Enforcement Network (“FinCEN”), Treasury.

ACTION: Notice and request for comments.

SUMMARY: As part of its continuing effort to reduce paperwork and respondent burden, FinCEN invites comment on a proposed information collection contained in a new form, “Suspicious Activity Report by the Securities and Futures Industry (SAR-SF).” The form will be used by broker-dealers to report suspicious activity to the Department of the Treasury. Futures commission merchants may also use the form to report suspicious activity to the Department of the Treasury on a voluntary basis. This request for comments is being made pursuant to the Paperwork Reduction Act of 1995, Public Law 104-13, 44 U.S.C. 3506(c)(2)(A).

DATES: Written comments are welcome and must be received on or before October 4, 2002.

ADDRESSES: Written comments should be submitted to: Office of Chief Counsel, Financial Crimes Enforcement Network, Department of the Treasury, P.O. Box 39, Vienna, Virginia 22183, Attention: PRA Comments—SAR-Securities and Futures Industry Form. Comments also may be submitted by electronic mail to the following Internet address: regcomments@fincen.treas.gov, again with a caption, in the body of the text, “Attention: PRA Comments—SAR-Securities and Futures Industry Form.”

Inspection of comments. Comments may be inspected, between 10 a.m. and 4 p.m., in the FinCEN reading room in Washington, DC. Persons wishing to inspect the comments submitted must request an appointment by telephoning (202) 354-6400.

FOR FURTHER INFORMATION CONTACT: Peter Djinis, Executive Assistant Director Regulatory Policy, FinCEN, at (703) 905-3930; Russell Stephenson, Regulatory Program Specialist, Office of Compliance and Regulatory Enforcement, FinCEN, at (202) 354-6015; and Judith R. Starr, Chief Counsel and Christine L. Schuetz, Attorney-Advisor, Office of Chief Counsel, FinCEN, at (703) 905-3590.

SUPPLEMENTARY INFORMATION: Title: Suspicious Activity Report by the Securities and Futures Industry (SAR-SF).

OMB Number: 1506-0019.

Form Number: TD F 90-22.XX.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities, to protect against international terrorism, and to implement counter-money laundering programs and compliance procedures.¹ Regulations implementing Title II of the Bank Secrecy Act appear at 31 CFR Part 103. The authority of the Secretary to administer the Bank Secrecy Act has been delegated to the Director of FinCEN.

¹ Language expanding the scope of the Bank Secrecy Act to intelligence or counter-intelligence activities to protect against international terrorism was added by Section 358 of the Uniting and strengthening America by Providing Appropriate Tools Required to Intercept and Obstruct Terrorism (USA PATRIOT ACT) Act of 2001 (the “USA Patriot Act”), P.L. 107-56.

The Secretary of the Treasury was granted authority in 1992, with the enactment of 31 U.S.C. 5318(g), to require financial institutions to report suspicious transactions. On July 1, 2002, FinCEN issued a final rule requiring brokers or dealers in securities (“broker-dealers”) to report suspicious transactions (“Broker-Dealer SAR Rule”). (67 FR 44048). The final rule can also be found at 31 CFR 103.19.

In the preamble to the final Broker-Dealer SAR Rule, FinCEN indicated that it would be developing a suspicious activity reporting form for broker-dealers entitled “Suspicious Activity Report—Brokers or Dealers in Securities,” or “SAR-BD.”² The form may also be used by futures commission merchants (“FCMs”) registered with the Commodities Futures Trading Commission voluntarily to report suspicious activity to FinCEN. Thus, the title of the draft form has been revised slightly from “SAR-BD” to “SAR-SF,” and several fields are provided on the form for use by FCMs.³

² See 67 FR 44048, 44051.

³ FinCEN anticipates issuing shortly a Notice of Proposed Rulemaking that would require FCMs to report suspicious activity.

The information collected on the new form is required to be provided pursuant to 31 U.S.C. 5318(g) and 31 CFR 103.19. This information will be made available, in accordance with strict safeguards, to appropriate criminal law enforcement and regulatory personnel, and to the registered securities associations and national securities exchanges (so-called self-regulatory organizations) for use in official performance of their duties, for regulatory purposes and in investigations and proceedings involving domestic and international money laundering, tax violations, fraud, and other financial crimes.

Reports filed by broker-dealers required to report suspicious transactions under 31 CFR 103.19, and any reports filed voluntarily by other broker-dealers will be subject to the protection from liability contained in 31 U.S.C. 5318(g)(3) and the provision contained in 31 U.S.C. 5318(g)(2) which prohibits notification of any person involved in the transaction that a suspicious activity report has been filed.

The draft SAR-SF is presented only for purposes of soliciting public comment on the form. This form should not be used at this time to report suspicious activity. A final version of the form will be made available at a later date.

Type of Review: New information collection.

Affected public: Business or other for-profit institutions.

Frequency: As required.

Estimated Burden: Reporting average of 40 minutes per response.⁴

⁴ This burden relates to the completion of the SAR-SF form. The recordkeeping burden of 31 CFR 103.19 is reflected in the final rule requiring broker-dealers to file reports of suspicious activity. See 67 FR 44048, 44055.

Estimated number of respondents = 8,300.

Estimated Total Annual Responses = 2,000.

Estimated Total Annual Burden Hours: 1,350.

An agency may not conduct or sponsor, and a person is not required to respond to, a collection of information unless the collection of information displays a valid OMB control number. Records required to be retained under the Bank Secrecy Act must be retained for five years.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: July 26, 2002.
James F. Sloan,
Director, Financial Crimes Enforcement Network.

Attachment—Suspicious Activity Report by the Securities and Futures Industry

BILLING CODE 4810-02-P

[FR Doc. 02-19662 Filed 8-2-02; 8:45 am]

BILLING CODE 4810-02-C